Proclamation 9582 of March 31, 2017

National Child Abuse Prevention Month, 2017

By the President of the United States of America

A Proclamation

Childhood is precious. Growing up in a loving home, with a nurturing family, surrounded by a safe community gives our children the best opportunity to realize their full potential. Sadly, mistreatment by parents, guardians, relatives, or caregivers all too often threatens children's ability to flourish. Abuse or neglect can rob children of their sense of dignity and worth, which are indispensable to the pursuit of happiness and success in the classroom, in the workplace, and in relationships. Children rightfully impose a moral obligation on adults, who must protect them from harm and preserve their opportunity to reach their full potential and achieve their dreams. They deserve nothing less. The dreams of our children are the future of this country.

As we observe National Child Abuse Prevention Month, we renew our commitment to stop child abuse before it begins. That means preventing destructive conduct from shattering the secure and protective environments in which our children deserve to live, learn, and thrive. We must all be aware of the signs of child maltreatment and take appropriate steps to safeguard children by reporting concerns and connecting families with the help they may need.

The family is society's most important institution, and its impact on human potential is unmatched by any other influence that government, education, or even community can wield. We must promote strong families. By respecting and supporting parents, we will reduce risks and increase the safety and protection critical to our children's happiness and success. The best child abuse prevention program is a strong family with well-equipped, mature, and child-focused parents. We therefore celebrate the many community members who help parents fulfill their moral obligations by providing them a needed shoulder to lean on in troubled times.

We also honor foster and adoptive parents, child protective workers, faith leaders, community mentors, teachers, and law enforcement officials, whose tireless work every day protects children who have been tragically abused or neglected. Their often thankless service in these difficult and painful situations helps restore the safety and dignity of these wounded children and, in many cases, dramatically improves the course of their precious lives. As a Nation, we pledge to honor our commitment to protecting the vulnerable among us, not just this month, but every day of the year.

NOW, THEREFORE, I, DONALD J. TRUMP, President of the United States of America, by virtue of the authority vested in me by the Constitution and the laws of the United States, do hereby proclaim April 2017 as National Child Abuse Prevention Month. I call upon all Americans to be alert to the safety and well-being of children and to support efforts that promote their physical, emotional, and developmental health.

IN WITNESS WHEREOF, I have hereunto set my hand this thirty-first day of March, in the year of our Lord two thousand seventeen, and of the Independence of the United States of America the two hundred and forty-first.

[FR Doc. 2017-06944

Filed 4-4-17; 11:15 am]

Billing code 3295-F7-P